DEPARTMENT OF JUSTICE

Notice of Lodging of Consent Decree Under the Comprehensive Environmental Response, Compensation, and Liability Act

Notice is hereby given that on September 4, 2012, a proposed Consent Decree in United States v. State of Utah, School and Institutional Trust Lands Administration, Civil Action No. 2:12-CV-00841-DBP, was lodged with the United States District Court for the District of Utah.

The Consent Decree resolves claims by the United States against the State of Utah, School and Institutional Trust Lands Administration (“SITLA”) pursuant to Section 107(a) of the Comprehensive Environmental Response, Compensation, and Liability Act (“CERCLA”), 42 U.S.C. 9607(a), for response costs incurred in conducting a removal action at the Cook Slurry Site (“Site”) in Saratoga Springs, Utah (the “Removal Action”). Cook Associates Inc., doing business as Cook Slurry Company (“Cook”), operated an explosives manufacturing facility at the Site on school trust lands owned by the State of Utah which predecessor agencies to SITLA had leased to Cook. Under the terms of the settlement SITLA will reimburse the United States $316,500 of the costs of completing the Removal Action.

The Department of Justice will receive, for a period of thirty (30) days from the date of this publication, comments relating to the proposed settlement agreement. Comments should be addressed to the Assistant Attorney General for the Environment and Natural Resources Division, and either emailed to pubcomment-ees.enrd@usdoj.gov or mailed to P.O. Box 7611, U.S. Department of Justice, Washington, DC 20044-7611, and should refer to United States v. State of Utah, School and Institutional Trust Lands Administration, Civil Action No. 2:12-CV-00841-DBP, and D.J. Ref. No. 90-11-3-10515.

During the public comment period, the settlement agreement may be examined on the following Department of Justice Web site, http://www.usdoj.gov/enrd/Consent_Decrees.html. A copy of the settlement agreement may also be obtained by mail from the Consent Decree Library, P.O. Box 7611, U.S. Department of Justice, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $3.75 ($.25 per page) payable to the U.S. Treasury or, if by email or fax, forward a check in that amount to the Consent Decree Library at the address given above.

Robert Brook,
Assistant Chief, Environmental Enforcement Section, Environment and Natural Resources Division.

[FR Doc. 2012-22121 Filed 9-7-12; 8:45 am]

BILLING CODE 4410-15-P